FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than July 8, 2004.

A. Federal Reserve Bank of Atlanta (Sue Costello, Vice President) 1000 Peachtree Street, N.E., Atlanta, Georgia 30303:

1. Billie Sims McRae, Ralph Dillion McRae, Sr., and William Vernon McRae, all of Leesburg, Louisiana, to collectively acquire additional outstanding shares of Vernon Bancshares, and thereby indirectly acquire voting shares Vernon Bank, both of Leesville, Louisiana.

B. Federal Reserve Bank of Dallas (W. Arthur Tribble, Vice President) 2200 North Pearl Street, Dallas, Texas 75201-2272:

1. New Mexico First Financial, Inc. Voting Trust, and trustees Lucinda Loveless, Hondo, New Mexico; T. Michael Henderson, Hondo, New Mexico; and William L. Giron, Belen, New Mexico, to acquire 44.36 percent of the outstanding voting stock of New Mexico First Financial, Inc., Dover, Delaware, and therefore indirectly, Mesilla Valley Bank, Las Cruces, New Mexico.

Board of Governors of the Federal Reserve System, June 18, 2004.
Robert deV. Frierson,
Deputy Secretary of the Board.

[FR Doc. 04-14292 Filed 6-23-04; 8:45 am]

BILLING CODE 6210-01-S